ENVIRONMENTAL PROTECTION AGENCY

[EPA-HQ-OPP-2010-0012; FRL-8831-3]

Notice of Receipt of Several Pesticide Petitions Filed for Residues of Pesticide Chemicals in or on Various Commodities

AGENCY: Environmental Protection Agency (EPA).

ACTION: Notice.

SUMMARY: This notice announces the Agency's receipt of several initial filings of pesticide petitions proposing the establishment or modification of regulations for residues of pesticide chemicals in or on various commodities.

DATES: Comments must be received on or before July 23, 2010.

ADDRESSES: Submit your comments, identified by docket identification (ID) number and the pesticide petition number (PP) of interest as shown in the body of this document, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to the docket ID number and the pesticide petition number of interest as shown in the body of this document. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: A contact person, with telephone number and e-mail address, is listed at the end of each pesticide petition summary. You may also reach each contact person by mail at Registration Division (7505P), Office of Pesticide Programs, Environmental Protection Agency, 1200 Pennsylvania Ave., NW., Washington, DC 20460-0001.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What Action is the Agency Taking?

EPA is announcing its receipt of several pesticide petitions filed under section 408 of the Federal Food, Drug, and Cosmetic Act (FFDCA), 21 U.S.C. 346a, proposing the establishment or modification of regulations in 40 CFR part 174 or part 180 for residues of pesticide chemicals in or on various food commodities. EPA has determined that the pesticide petitions described in this notice contain the data or information prescribed in FFDCA section 408(d)(2); however, EPA has not fully evaluated the sufficiency of the submitted data at this time or whether the data support granting of the pesticide petitions. Additional data may be needed before EPA can make a final determination on these pesticide petitions.

Pursuant to 40 CFR 180.7(f), a summary of each of the petitions that are the subject of this notice, prepared by the petitioner, is included in a docket EPA has created for each rulemaking. The docket for each of the petitions is available on-line at http://www.regulations.gov.

As specified in FFDCA section 408(d)(3), (21 U.S.C. 346a(d)(3)), EPA is publishing notice of the petition so that the public has an opportunity to comment on this request for the establishment or modification of regulations for residues of pesticides in or on food commodities. Further information on the petition may be obtained through the petition summary referenced in this unit.

New Tolerances

1. PP 0E7723. (EPA-HQ-OPP-2010-0471). IR-4, 500 College Road East, Suite 201W, Princeton, NJ 08540, proposes to establish tolerances in 40 CFR part 180 for residues of the insecticide novaluron N-[[[3-chloro-4-[1,1,2-trifluoro-2-trifluoromethoxy)ethoxy]phenyl] amino]carbonyl]-2,6-difluorobenzamide, in or on corn, sweet, kernals plus cob with husks removed at 0.05 parts per million (ppm); corn, sweet, forage at 20 ppm; and corn, sweet, stover at 50 ppm. Makhteshim-Agan of North America, Inc., 4515 Falls of Neuse Road, Raleigh, NC 27609, is the manufacturer and basic registrant of novaluron. Makhteshim-Agan of North America, Inc., prepared and summarized the following information in support of the subject pesticide petition for novaluron. Adequate analytical enforcement methods, gas chromatography/electron capture detector (GC/ECD) and a high performance liquid chromatography/ultraviolet method (HPLC/UV) for enforcing tolerances of novaluron residues in or on different matrices are available, as published in the Federal Register of January 27, 2010 (75 FR 4274) (FRL-8807-2). A method validation was conducted both prior to sample analysis and concurrently with sample analysis, determining that the method recoveries were in the range. The limit of quantitation (LOQ) for the method in K+CWHR, forage and stover was calculated to be 0.040, 0.052 and 0.049 ppm, respectively. The lowest level of method validation (LLMV) for novaluron in corn forage, stover and K+CWHR was 0.05 ppm. Contact: Laura Nollen, (703) 305-7390, e-mail address: nollen.laura@epa.gov.

2. PP 0F7708. (EPA-HQ-OPP-2010-0466). Makhteshim-Agan of North America, Inc., 4515 Falls of Neuse Road, Raleigh, NC 27609, proposes to establish tolerances in 40 CFR part 180 for residues of the insecticide novaluron (N-[[[3-chloro-4-[1,1,2-trifluoro-2-trifluoromethoxy)ethoxy]phenyl]amino]carbonyl]-2,6-difluorobenzamide) in or on all food commodities (other than those already covered by a higher tolerance as a result of use on growing crops) in food handling establishments where food products are held, processed or prepared at 0.01 ppm. An adequate analytical enforcement method GC/ECD and a HPLC/UV method for enforcing tolerances of novaluron residues in or on different matrices are available. Concerning this petition, a validation method was conducted determining residue concentrations of novaluron in or on butter, meat, milk, bread, lettuce and typical dinner plates serving as representative commodities in a simulated food-handling establishment to which novaluron was applied. Contact: Jennifer Gaines, (703) 305-5967, e-mail address: gaines.jennifer@epa.gov.

3. PP 0F7709. (EPA-HQ-OPP-2010-0421). BASF Corporation, 26 Davis Drive, P.O. Box 13528, Research Triangle Park, NC 27709-3528, proposes to establish tolerances in 40 CFR part 180 for residues of the insecticide fluxapyroxad (BAS 700 F) 1H-pyrazole-4-carboxamide, 3-(difluoromethyl)-1-methyl-N-(3',4',5'-trifluoro1,1'-biphenyl-2-yl)-) in or on apple, wet pomace at 3.5 ppm; barley, bran at 6.0 ppm; beet, sugar, tops at 4.0 ppm; beet, sugar, dried pulp at 0.16 ppm; corn, field, grain at 0.01 ppm; corn, oil, refined at 0.05 ppm; cotton, gin byproducts at 0.01 ppm; cotton, undelinted seed at 0.01 ppm; fruit, pome, group 11 at 0.7 ppm; fruit, stone, group 12 at 1.4 ppm; grain, aspirated fractions at 16.0 ppm; grain, cereal, group 15, except field corn grain at 2.5 ppm; grain, cereal, forage, fodder and straw, group 16 at 25.0 ppm; peanut at 0.02 ppm; peanut, meal at 0.03 ppm; peanut, refined oil at 0.06 ppm; plum, prune at 4.0 ppm; potato, wet peel at 0.2 ppm; rapeseed, (cultivars/varieties and/or hybrids including canola and crambe) at 0.60 ppm; rice, hulls at 10.0 ppm; soybean, hulls at 6.5 ppm; soybean, seed at 0.20 ppm; sunflower, seed at 0.60 ppm; vegetable, foliage of legume, group 7 at 18.0 ppm; vegetable, fruiting, group 8 at 0.60 ppm; vegetable, legume, dried shelled pea and bean (except soybean), subgroup 6C at 0.35 ppm; vegetable, legume, edible podded, subgroup 6A at 1.40 ppm; vegetable, legume, succulent shelled pea and bean, subgroup 6B at 0.45 ppm; vegetable, root, subgroup 1A at 0.10 ppm; vegetable, tuberous and corm, subgroup 1C at 0.04 ppm; vegetable, tuberous and corm, (except potato), subgroup 1D at 0.04 ppm; wheat, bran at 6.0 ppm; wheat, germ at 3.0 ppm; cattle, fat at 0.1 ppm; cattle, kidney at 0.01 ppm; cattle, liver at 0.10 ppm; cattle, meat at 0.01 ppm; cattle, meat byproducts at 0.10 ppm; egg at 0.01 ppm; goat, fat at 0.1 ppm; goat, kidney at 0.01 ppm; goat, liver at 0.10 ppm; goat, meat at 0.01 ppm; goat, meat byproducts at 0.10 ppm; hog, fat at 0.01 ppm; hog, liver at 0.01 ppm; hog, meat at 0.01 ppm; hog, meat byproducts at 0.01 ppm; horse, fat at 0.1 ppm; horse kidney at 0.01 ppm; horse, liver at 0.10 ppm; horse, meat at 0.01 ppm; horse, meat byproducts at 0.10 ppm; milk at 0.02 ppm; milk, fat at 0.2 ppm; egg at 0.01 ppm; poultry, byproducts at 0.01 ppm; poultry, fat at 0.01 ppm; poultry, liver at 0.01 ppm; poultry, meat at 0.01 ppm; poultry, skin at 0.01 ppm; sheep, fat at 0.1 ppm; sheep, kidney at 0.01 ppm; sheep, liver at 0.10 ppm; sheep, meat at 0.01 ppm; and sheep, meat byproducts at 0.10 ppm. Independently validated analytical methods have been submitted for analyzing residues of parent BAS 700 F plus metabolites M700F008, M700F048 and M700F002 with appropriate sensitivity in crops and processed commodities for which tolerances are being requested. Contact: Olga Odiott, (703) 308-9369, e-mail address: odiott.olga@epa.gov.

4. PP 0F7712. (EPA-HQ-OPP-2008-0771). Bayer CropScience, P.O. Box 12014, 2 T.W. Alexander Drive, Research Triangle Park, NC 27709, proposes to establish a tolerance in 40 CFR part 180 for residues of the insecticide clothianidin, (E)-1-(2-chloro-1,3-thiazol-5-ylmethyl)-3-methyl-2-nitroguanidine, in or on mustard, seed at 0.01 ppm. In plants and plant products, the residue of concern, parent clothianidin, can be determined using HPLC with electrospray mass spectrometry (MS/MS) detection. In an extraction efficiency testing, the plant residues method has also demonstrated the ability to extract aged clothianidin residue. Although the plant residues LC/MS/MS method is highly suitable for enforcement method, an LC/UV method has also been developed which is suitable for enforcement (monitoring) purposes in all relevant matrices. Contact: Kable Bo Davis, (703) 306-0415, e-mail address: davis.kable@epa.gov.

5. PP 0F7718. (EPA-HQ-OPP-2010-0426). Nichino America, Inc., 4550 New Linden Hill Road, Suite 501, Wilmington, DE 19808, proposes to establish tolerances in 40 CFR part 180 for residues of the herbicide pyraflufen-ethyl, ethyl 2-chloro-5-(4-chloro-5-difluoromethoxy-1-methyl-1H-pyrazol-3-yl)-4-fluorophenoxyacetate and its acid metabolite, E-1, 2-chloro-5-(4-chloro-5-difluoromethoxy-1-methyl-1H-pyrazol-3-yl)-4-fluorophenoxyacetic acid, expressed in terms of the parent, in or on almond hulls at 0.02 ppm; nuts, tree, group 14 at 0.01 ppm; pistachio at 0.01 ppm; fruit, pome, group 11 at 0.01 ppm; fruit, stone, group 12 at 0.01 ppm; pomegranates at 0.01 ppm; olives at 0.01 ppm; grapes at 0.01 ppm, and hops at 0.05 ppm. An analytical method was developed to measure the pyraflufen-ethyl and its metabolites by aqueous organic solvent extraction, column clean up, and quantitation by GC. Contact: James M. Stone, (703) 305-7391, e-mail address: stone.james@epa.gov.

6. PP 0F7722. (EPA-HQ-OPP-2010-0458). E. I. du Pont de Nemours and Company, 1007 Market Street, Wilmington, DE 19898, proposes to establish a tolerance in 40 CFR part 180 for residues of the fungicide picoxystrobin, in or on cereal grains except rice (crop group 15) at 0.2 ppm; cereal forage and fodder except rice (crop group 16) at 13.0 ppm; cereal grain aspirated grain fractions at 4.5 ppm; cereal grain oil at 1.5 ppm; dry legume vegetables except soybean (crop group 6, subgroup C) at 0.1 ppm; legume vegetable foliage (crop group 7) at 18.0 ppm; soybean seed at 0.05 ppm; soybean forage at 0.8 ppm; soybean hay at 2.5 ppm; soybean aspirated grain fractions at 3.2 ppm; soybean hulls at 10.0 ppm; soybean oil at 0.05 ppm; canola seed at 0.05 ppm; meat and meat byproducts except liver of cattle, goat, hog, horse, and sheep at 0.01 ppm; fat of cattle, goat, hog, horse, and sheep at 0.05 ppm; liver of cattle, goat, hog, horse, and sheep at 0.8 ppm; meat, meat byproducts, fat, and eggs of poultry at 0.01 ppm; milk at 0.01 ppm, and cream, at 0.03 ppm. Adequate analytical methodology is available for enforcement purposes. An analytical method has been developed and independently validated for the detection and quantification of picoxystrobin and metabolites in various crop matrices including cereals, soybean, dried legume, canola, lettuce, and orange matrices. The method was validated at 0.010 and 0.10 ppm in all matrices using an LC/MS/MS system operating with an electrospray interface (ESI) in positive ion mode. The analytical method is suitable for enforcement/monitoring and data generation for regulatory studies. An analytical method has been developed and independently validated for the detection, quantification and confirmation of picoxystrobin residues in animal tissues including chicken egg, bovine whole and skim milk and cream and bovine muscle, liver, kidney and fat. The method quantifies picoxystrobin in the animal matrices at levels of approximately 0.010 mg/kg using a HPLC/ESI-MS/MS system. The analytical method is suitable for enforcement/monitoring and data generation for regulatory studies. Contact: Susan Stanton, (703) 305-5218, e-mail address: stanton.susan@epa.gov.

7. PP 0F7730. (EPA-HQ-OPP-2007-0546). Syngenta Crop Protection, Inc., P.O. Box 18300, Greensboro, NC 27419, proposes to establish a tolerance in 40 CFR part 180 for residues of the fungicide thiabendazole [2-(4-thiazolyl)-1H-benzimidazole], (CAS Reg. No. 148-79-8) and its metabolite benzimidazole (free and conjugated), in or on corn, field, forage at 0.01 ppm; corn, field, grain at 0.01 ppm; corn, field, stover at 0.01 ppm; corn, pop, forage at 0.01 ppm; corn, pop, grain at 0.01 ppm; corn, pop, stover at 0.01 ppm; corn, sweet, forage at 0.01 ppm; corn, sweet, stover at 0.01 ppm; and corn, sweet, kernel plus cobs with husks removed at 0.01 ppm. Adequate analytical methodology is available for data collection enforcing of thiabendazole residues. The Pesticide Analytical Manual (PAM) Vol. II lists four spectrophotofluorometric methods (Methods I, A, B and C) for determining residues of thiabendazole per se in or on plant commodities, and one spectrophotofluorometric method (Method D) for determining residues of thiabendazole and 5-hydroxy-thiabendazole in milk. Contact: Janet Whitehurst, (703) 305-6129, e-mail address: whitehurst.janet@epa.gov.

8. PP 9F7679. (EPA-HQ-OPP-2010-0267). Bayer CropScience LLC, 2 T. W. Alexander Drive, Research Triangle Park, NC 27709, proposes to establish tolerances in 40 CFR part 180 for residues of the herbicide safener, mefenpyr-diethyl including its metabolites and degradates. Compliance with the tolerance levels specified is to be determined by measuring residues of mefenpyr-diethyl ((RS)-1-(2,4-dichlorophenyl)-5-methyl-2-pyrazoline-3,5-dicarboxylic acid) and its dichlorophenylpyrazoline metabolites in or on sorghum, grain at 0.01 ppm; sorghum, forage at 0.1 ppm; sorghum, stover at 0.05 ppm; grass, hay at 0.05 ppm; and grass, forage at 1.5 ppm. An enforcement method for plants has been developed and radiovalidation and independent laboratory validation (ILV) conducted. The EPA has concluded that this method is suitable for food tolerance enforcement of mefenpyr-diethyl and its 2,4-dichlorophenyl-pyrazoline metabolites. Contact: Bethany Benbow, (703) 347-8072, e-mail address: benbow.bethany@epa.gov.

9. PP 9F7680. (EPA-HQ-OPP-2010-0266). Bayer CropScience LLC, 2 T. W. Alexander Drive, Research Triangle Park, NC 27709, proposes to establish tolerances in 40 CFR part 180 for residues of the herbicide pyrasulfotole including its metabolites and degradates. Compliance with the tolerance levels specified is to be determined by measuring residues of pyrasulfotole (AE 0317309) (5-hydroxy-1,3-dimethyl-1H-pyrazol-4-yl)-[2-(methylsulfonyl)-4-(trifluoromethyl)-phenyl]-methanone and its metabolite (5-Hydroxy-3-methyl-1H-pyrazol-4-yl)-[2-(methylsulfonyl)-4-(trifluoromethyl)phenyl] methanone, calculated as the stoichiometric equivalent of pyrasulfotole, in or on sorghum, grain at 0.8 ppm; sorghum, forage at 1.2 ppm; sorghum, stover at 0.35 ppm; grass, hay at 2.5 ppm; and grass, forage at 10 ppm. The analytical method is an LC/MS/MS method which quantifies pyrasulfotole and its metabolite (5-Hydroxy-3-methyl-1H-pyrazol-4-yl)[2-(methylsulfonyl)-4-(trifluoromethyl) phenyl]methanone with an LOQ of 0.01 mg/kg. Pyrasulfotole and its metabolite are solvent extracted, hydrolyzed to released conjugated residues and purified by C18 solid phase extraction. Residues are quantified by LC/MS/MS using isotopically labeled internal standards. Validation of the methodology for the determination of pyrasulfotole and its metabolite demonstrated that it could accurately determine residues at the LOQ of 0.01 ppm in all appropriate matrices. Pyrasulfotole and its metabolite are stable for at least 11 months for the above matrices. Contact: Bethany Benbow, (703) 347-8072, e-mail address: benbow.bethany@epa.gov.

Amended Tolerances

1. PP 0E7723. (EPA-HQ-OPP-2010-0471). IR-4, 500 College Road East, Suite 201W, Princeton, NJ 08540, proposes to increase the tolerances in 40 CFR 180.598 for residues of the insecticide novaluron, N-[[[3-chloro-4-[1,1,2-trifluoro-2-trifluoromethoxy)ethoxy] phenyl]amino]carbonyl]-2,6-difluorobenzamide, in or on milk from 1.0 to 1.5 ppm; and milk, fat from 20 to 35 ppm. Makhteshim-Agan of North America, Inc., 4515 Falls of Neuse Road, Raleigh, NC 27609, is the manufacturer and basic registrant of novaluron. Makhteshim-Agan of North America, Inc., prepared and summarized the following information in support of the subject pesticide petition for novaluron. Adequate analytical enforcement methods, GC/ECD method and a HPLC/UV method for enforcing tolerances of novaluron residues in or on different matrices are available, as published in the Federal Register of January 27, 2010 (75 FR 4274) (FRL-8807-2). A method validation was conducted both prior to sample analysis and concurrently with sample analysis, determining that the method recoveries were in the range. The LOQ for the method in K+CWHR, forage and stover was calculated to be 0.040, 0.052 and 0.049 ppm, respectively. The LLMV for novaluron in corn forage, stover and K+CWHR was 0.05 ppm. Contact: Laura Nollen, (703) 305-7390, e-mail address: nollen.laura@epa.gov.

2. PP 9F7622. (EPA-HQ-OPP-2010-0287). Valent U.S.A. Company, 1600 Riviera Ave., Suite 200, Walnut Creek, CA 94596-8025, proposes to amend the tolerance in 40 CFR 180.617 by decreasing the established tolerance for residues of the fungicide metconazole, 5-[(4-chlorophenyl)methyl]-2,2-dimethyl-1-(1H-1,2,4-triazol-1-ylmethyl)cyclopentanol, measured as the sum of cis- and trans- isomers, in or on nut, tree (crop group 14) from 0.04 ppm to 0.02 ppm. Independently validated analytical methods have been submitted for analyzing parent metconazole residues with appropriate sensitivity for all canola crop and processed commodities for which a tolerance is being requested. Contact: Tracy Keigwin, (703) 305-6605, e-mail address: keigwin.tracy@epa.gov.

3. PP 9F7678. (EPA-HQ-OPP-2010-0268). Bayer CropScience LLC, 2 T. W. Alexander Drive, Research Triangle Park, NC 27709, proposes to amend the 40 CFR 180.324 by revising tolerances for residues of the herbicide, bromoxynil including its metabolites and degradates. Compliance with the tolerance levels specified is to be determined by measuring residues of bromoxynil (3,5-dibromo-4-hydroxybenzonitrile), in or on sorghum, grain at 0.2 ppm; grass, hay at 5.0 ppm; and grass, forage at 18 ppm. Since bromoxynil already has tolerances on sorghum and grass commodities adequate analytical methods are in place to support the desired uses. Contact: Bethany Benbow, (703) 347-8072, e-mail address: benbow.bethany@epa.gov.

4. PP 9F7680. (EPA-HQ-OPP-2010-0266). Bayer CropScience LLC, 2 T. W. Alexander Drive, Research Triangle Park, NC 27709, proposes to increase the tolerances in 40 CFR 180.631 for residues of the herbicide, pyrasulfotole including its metabolites and degradates. Compliance with the tolerance levels specified is to be determined by measuring residues of pyrasulfotole (AE0317309) (5-hydroxy-1,3-dimethyl-1H-pyrazol-4-yl)[2-(methylsulfonyl)-4-(trifluoromethyl)phenyl]-methanone and its metabolite (5-Hydroxy-3-methyl-1H-pyrazol-4-yl-[2-(methylsulfonyl)-4-(trifluoromethyl)phenyl] methanone, calculated as the stoichiometric equivalent of pyrasulfotole, in or on cattle, goat, hog, sheep, horse, meat at 0.04 ppm; cattle, goat, hog, sheep, horse, fat at 0.04 ppm; cattle, goat, hog, sheep, horse, meat byproducts, except liver at 2 ppm; and cattle, goat, hog, sheep, horse, liver at 8 ppm. The analytical method is an LC/MS/MS method which quantifies pyrasulfotole and its metabolite (5-Hydroxy-3-methyl-1H-pyrazol-4-yl)[2-(methylsulfonyl)-4-(trifluoromethyl) phenyl]methanone with an LOQ of 0.01 mg/kg. Pyrasulfotole and its metabolite are solvent extracted, hydrolyzed to released conjugated residues and purified by C18 solid phase extraction. Residues are quantified by LC/MS/MS using isotopically labeled internal standards. Validation of the methodology for the determination of pyrasulfotole and its metabolite demonstrated that it could accurately determine residues at the LOQ of 0.01 ppm in all appropriate matrices. Pyrasulfotole and its metabolite are stable for at least 11 months for the above matrices. Contact: Bethany Benbow, (703) 347-8072, e-mail address: benbow.bethany@epa.gov.

New Tolerance Exemptions

1. PP 0E7701. (EPA-HQ-OPP-2008-0095). Ag-Chem Consulting, 12208 Quinque Lane, Clifton, VA 21024, on behalf of LG Life Science, 910 Sylvan Ave., Englewood Cliffs, NJ 07632, proposes to establish an exemption from the requirement of a tolerance for residues of polyoxyethylene mono (tristyrylphenyl)ether (CAS No. 99734-09-5) applied to postharvest crops under 40 CFR 180.910 when used as a pesticide inert ingredient as a surfactant with a maximum of 10.0% by weight in pesticide formulations applied to food areas and food contact surfaces in food service and food handling establishments. The petitioner believes no analytical method is needed because requirements for an analytical method are not applicable to a request to establish an exemption from the requirement of a tolerance. Contact: Karen Samek, (703) 347-8825, e-mail address: samek.karen@epa.gov.

2. PP 9E7660. (EPA-HQ-OPP-2010-0429). BASF Corporation, 100 Campus Dr., Florham Park, NJ 07932, proposes to establish an exemption from the requirement of a tolerance for residues of Acetic acid ethenyl, polymer with oxirane (CAS No. 25820-49-9) when used as a pesticide inert ingredient as a surfactant in pesticide formulations without limitation. The petitioner believes no analytical method is needed because requirements for an analytical method are not applicable to a request to establish an exemption from the requirement of a tolerance. Contact: Deirdre Sunderland, (703) 603-0851, e-mail address: sunderland.deirdre@epa.gov.

List of Subjects

Environmental protection, Agricultural commodities, Feed additives, Food additives, Pesticides and pests, Reporting and recordkeeping requirements.

Dated: June 15, 2010.
Lois Rossi,
Director, Registration Division, Office of Pesticide Programs.

[FR Doc. 2010-15034 Filed 6-22-10; 8:45 am]

BILLING CODE S